DEPARTMENT OF THE INTERIOR

National Park Service

60-Day Notice of Intention To Request Clearance of Collection of Information; Opportunity for Public Comment

AGENCY: National Park Service, Department of Interior.

ACTION: Notice and request for comments.

SUMMARY: Under the provisions of the Paperwork Reduction Act of 1995 and 5 CFR part 1320, Reporting and Record Keeping Requirements, the National Park Service (NPS) invites public comments on an extension of a currently approved information collection Office of Management and Budget (OMB) #1024-0022.

DATES: Public comments on this Information Collection Request (ICR) will be accepted on or before September 17, 2010.

ADDRESSES: Send comments to: Garry Oye, National Park Service, Department of the Interior 1201 Eye Street NW. (Room 1004), Washington DC 20005; fax: 202-371-6623 or by e-mail at Garry_Oye@nps.gov. All responses to this notice will be summarized and included in the request for the OMB approval. All comments will become a matter of public record.

FOR FURTHER INFORMATION CONTACT: Garry Oye, National Park Service, Department of the Interior, Chief of Wilderness Stewardship Division by e-mail at Garry_Oye@nps.gov or by phone: 202-513-7090.

SUPPLEMENTARY INFORMATION:

Title: Backcountry Use Permit (36 CFR 1.5, 1.6, and 2.10).

Form: Backcountry Use Permit, 10-404A.

OMB Control Number: 1024-0022.

Expiration Date: 11/30/2010.

Type of Request: Extension of a currently approved collection of information.

Description of Need: In 1976, the NPS initiated a backcountry registration system in accordance with the regulations found at 36 CFR 1.5, 1.6 and 2.10. The objective of the use permit system is to provide users access to backcountry areas of national parks with continuing opportunities for solitude, while enhancing resource protection and providing a means of disseminating public safety messages regarding the backcountry travel.

NPS backcountry program managers, by designating access routes and overnight camping locations, can redistribute campers in response to user impact, high fire danger, flood or wind hazard, bear activity or other situations that may temporarily close a portion of the backcountry. The NPS may also use the permit system as a means of ensuring that each backcountry user receives up-to-date information on backcountry sanitation procedures, food storage, wildlife activity, trail conditions and weather projections so that concerns for visitor safety are met.

The Backcountry Use Permit is an extension of the NPS statutory authority responsibility to protect the park areas it administers and to manage the public use thereof (16 U.S.C. 1 and 3). NPS regulations codified in 36 CFR parts 1 through 7, 12 and 13 are designated to implement statutory mandates that provide for resource protection and pubic enjoyment. The Backcountry Use Permit is the primary form used to provide access into NPS backcountry areas including those areas that require a reservation to enter where use limits are imposed in accordance with other NPS regulations. Such permitting enhances the ability to the NPS to education users on potential hazards, search and rescue efforts, and resource protection.

Description of Respondents: Individuals wishing to use backcountry areas within national parks.

Estimated Average Number of Responses: 285,000 annually.

Frequency of Response: 1 per respondent.

Estimated Average Time Burden per Respondent: 5 minutes.

Estimated Total Annual Reporting Burden: 23,750 hours.

Comments are Invited on: (1) The practical utility of the information being gathered; (2) the accuracy of the burden hour estimate; (3) ways to enhance the quality, utility, and clarity of the information being collected; and (4) ways to minimize the burden to respondents, including use of automated information collection techniques or other forms of information technology. Before including your address, phone number, e-mail address, or other personal identifying information in your comment, you should be aware that your entire comment—including your personal identifying information—may be made publicly available at any time. While you can ask us in your comment to withhold your personal identifying information from public review, we cannot guarantee that we will be able to do so.

Dated: July 13, 2010.
Cartina Miller,
NPS, Information Collection Clearance Officer.

[FR Doc. 2010-17463 Filed 7-16-10; 8:45 am]

BILLING CODE P